COMMODITY FUTURES TRADING COMMISSION

Sunshine Act Meetings

time and date: 11 a.m., Friday, May 26, 2006.

place: 1155 21st St., NW., Washington, DC, 9th Floor Commission Conference Room.

status: Closed.

matters to be considered: Surveillance Matters.

contact person for more information: Jean A. Webb, 202-418-5100.

Jean A. Webb,
Secretary of the Commission.

[FR Doc. 06-3730 Filed 4-14-06; 10:35 am]

BILLING CODE 6351-01-M